DEPARTMENT OF THE TREASURY

Fiscal Service

31 CFR Parts 315, 341, 346, 351, 352, 353, 359, and 360

Regulations Governing U.S. Savings Bonds, Series A, B, C, D, E, F, G, H, J, and K, and U.S. Savings Notes; United States Retirement Plan Bonds; United States Individual Retirement Bonds; United States Savings Bonds, Series EE and HH; Definitive United States Savings Bonds, Series I; Offering of United States Savings Bonds, Series EE; United States Savings Bonds, Series HH; Offering of United States Savings Bonds, Series I

AGENCY: Bureau of the Public Debt, Fiscal Service, Treasury.

ACTION: Final rule.

SUMMARY: This final rule eliminates requirements to inscribe complete taxpayer identification numbers (TINs) on the face of: (1) Newly issued definitive Series EE and Series I savings bonds; (2) reissued or replaced definitive Series E, Series EE, Series H, Series HH, and Series I savings bonds; and (3) reissued or replaced Individual Retirement and Retirement Plan bonds. This change is being implemented to protect the privacy of savings bond owners. Purchasers of newly issued savings bonds will continue to be required to provide the TIN of the owner, first named coowner, or purchaser of a gift bond to be maintained as part of the registration of the bonds on the records of the Treasury Department. The TINs of the registered owner or first named coowner of a reissued or replaced bond will also be maintained as a part of the registration on the records of the Treasury Department.

DATES: Effective: August 15, 2006.

ADDRESSES: You can download this final rule at the following Internet addresses: http://www.publicdebt.treas.gov or http://www.gpoaccess.gov/ecfr.

FOR FURTHER INFORMATION CONTACT: Elisha Whipkey, Director, Division of Program Administration, Office of Securities Operations, Bureau of the Public Debt, at (304) 480-6319 or elisha.whipkey@bpd.treas.gov.

Susan Sharp, Attorney-Adviser, Dean Adams, Assistant Chief Counsel, Edward Gronseth, Deputy Chief Counsel, Office of the Chief Counsel, Bureau of the Public Debt, at (304) 480-8692 or susan.sharp@bpd.treas.gov.

SUPPLEMENTARY INFORMATION: Newly purchased definitive Series EE and Series I savings bonds are issued with the TIN of the owner, first-named coowner, or purchaser of a gift bond inscribed on the face of the bond. Reissued or replaced definitive Series E, Series EE, Series H, Series HH, and Series I savings bonds, Individual Retirement bonds, and Retirement Plan bonds also have the TIN inscribed on the face of the bond. Due to concerns about the privacy of bond owners, the Department of the Treasury is eliminating language requiring the inscription of the complete TIN of the owner, first-named coowner, or purchaser of a gift bond on the face of the bond. The TIN of the owner, first-named coowner, or purchaser of a gift bond will continue to be maintained on the records of the Treasury Department. This change will benefit savings bond owners by providing additional privacy protections against identity theft.

Procedural Requirements

This final rule does not meet the criteria for a “significant regulatory action” as defined in Executive Order 12866. Therefore, a regulatory assessment is not required.

Because this final rule relates to matters of public contract and procedures for United States securities, notice and public procedure and delayed effective date requirements are inapplicable, pursuant to 5 U.S.C. 553(a)(2).

As no notice of proposed rulemaking is required, the Regulatory Flexibility Act (5 U.S.C. 601 et seq.) does not apply.

We ask for no new collections of information in this final rule. Therefore, the Paperwork Reduction Act (44 U.S.C. 3507) does not apply.

List of Subjects

31 CFR Part 315

Banks and banking, Government securities, Federal Reserve system.

31 CFR Part 341

Bonds, Retirement.

31 CFR Part 346

Bonds, Retirement.

31 CFR Part 351

Bonds, Federal Reserve system, Government securities.

31 CFR Part 352

Bonds, Government securities.

31 CFR Part 353

Banks and banking, Government securities, Federal Reserve system.

31 CFR Part 359

Bonds, Federal Reserve system, Government securities, Securities.

31 CFR Part 360

Bonds, Federal Reserve system, Government securities, Securities.

Accordingly, for the reasons set out in the preamble, 31 CFR Chapter II, Subchapter B, is amended as follows:

PART 315—REGULATIONS GOVERNING U.S. SAVINGS BONDS, SERIES A, B, C, D, E, F, G, H, J, AND K, AND U.S. SAVINGS NOTES

1. The authority citation for Part 315 continues to read as follows:

Authority: 31 U.S.C. 3105 and 5 U.S.C. 301.

2. Section 315.2 is amended by redesignating paragraphs (g) through (l) as paragraphs (h) through (m), redesignating paragraphs (m) through (q) as paragraphs (o) through (s), and adding new paragraphs (g) and (n) to read as follows:

§ 315.2 Definitions.

* * * * *

(g) Inscription means the information that is printed on the face of the bond.

* * * * *

(n) Registration means that the names of all persons named on the bond and the taxpayer identification number (TIN) of the owner, first-named coowner, or purchaser of a gift bond are maintained on our records.

* * * * *

3. Section 315.7 is amended by revising the last sentence of paragraph (a) to read as follows:

§ 315.7 Authorized forms of registration.

(a) General. * * * A savings bond registered in a form not substantially in agreement with one of the forms authorized by this subpart is not considered validly issued.

* * * * *

PART 341—REGULATIONS GOVERNING UNITED STATES RETIREMENT PLAN BONDS

4. The authority citation for Part 341 is revised to read as follows:

Authority: 5 U.S.C. 301; 12 U.S.C. 391; 31 U.S.C. 3106 et seq., 3125, 3126.

5. Section 341.2 is amended by revising the first sentence of paragraph (b) to read as follows:

§ 341.2 Registration.

* * * * *

(b) Inscription. The inscription on the face of each bond will show the name, address, and date of birth of the registered owner, as well as information as to whether he is a self-employed individual or an employee, and the amount he contributed (if any) out of his own funds toward the purchase price of the bond. * * *

PART 346—REGULATIONS GOVERNING UNITED STATES INDIVIDUAL RETIREMENT BONDS

6. The authority citation for Part 346 is revised to read as follows:

Authority: 5 U.S.C. 301; 12 U.S.C. 391; 31 U.S.C. 3106 et seq., 3125, 3126.

7. Section 346.2 is amended by revising paragraph (b) to read as follows:

§ 346.2 Registration.

* * * * *

(b) Inscription. The inscription on the face of each bond will show the name, address, and date of birth of the registered owner. The name of the beneficiary, if one is to be designated, will also be shown in the inscription.

PART 351—OFFERING OF UNITED STATES SAVINGS BONDS, SERIES EE

8. The authority citation for Part 351 continues to read as follows:

Authority: 5 U.S.C. 301; 12 U.S.C. 391; 31 U.S.C. 3105.

9. Section 351.3 is amended by adding the definitions of “Inscription” and “Registration”, in alphabetical order, and removing the definitions of “Registration of a book-entry Series EE savings bond” and “Registration of a definitive Series EE savings bond”, to read as follows:

§ 351.3 What special terms do I need to know to understand this part?

* * * * *

Inscription means the information that is printed on the face of the bond.

* * * * *

Registration means that the names of all persons named on the bond and the taxpayer identification number (TIN) of the owner, first-named coowner, or purchaser of a gift bond are maintained on our records.

* * * * *

10. Revise § 351.43 to read as follows:

§ 351.43 Are taxpayer identification numbers (TINs) required for the registration of a definitive Series EE savings bond?

The registration of a definitive Series EE savings bond must include the TIN of the owner or first-named coowner. The TIN of the second-named coowner or beneficiary is not required but its inclusion is desirable. If the bond is being purchased as a gift or award and the owner's TIN is not known, the TIN of the purchaser must be included in the registration of the bond.

PART 352-OFFERING OF UNITED STATES SAVINGS BONDS, SERIES HH

11. The authority citation for Part 352 is revised to read as follows:

Authority: 5 U.S.C. 301; 12 U.S.C. 391; 31 U.S.C. 3105.

12. Section 352.3 is amended by revising the first sentence of paragraph (c) to read as follows:

§ 352.3 Registration and issue.

* * * * *

(c) Taxpayer identifying number. The registration of a bond must include the taxpayer identifying number of the owner or first-named co-owner. * * *

PART 353—REGULATIONS GOVERNING UNITED STATES SAVINGS BONDS, SERIES EE AND HH

13. The authority citation for Part 353 continues to read as follows:

Authority: 5 U.S.C. 301; 12 U.S.C. 391; 31 U.S.C. 3105, 3125.

14. Section 353.2 is amended by redesignating paragraphs (d) through (h) as paragraphs (e) through (i), redesignating paragraphs (i) through (m) as paragraphs (k) through (o), and adding new paragraphs (d) and (j) to read as follows:

§ 353.2 Definitions.

* * * * *

(d) Inscription means the information that is printed on the face of the bond.

* * * * *

(j) Registration means that the names of all persons named on the bond and the taxpayer identification number (TIN) of the owner, first-named coowner, or purchaser of a gift bond are maintained on our records.

* * * * *

15. Section 353.5 is amended by revising the heading and the second sentence of paragraph (c) to read as follows:

§ 353.5 General rules.

* * * * *

(c) Registration of bonds purchased as gifts.

* * * Bonds so registered will not be associated with the purchaser's own holdings.

* * * * *

16. Section 353.7 is amended by revising the last sentence of the introductory paragraph to read as follows:

§ 353.7 Authorized forms of registration.

* * * A savings bond registered in a form not substantially in agreement with one of the forms authorized by this subpart is not considered validly issued.

* * * * *

PART 359—OFFERING OF UNITED STATES SAVINGS BONDS, SERIES I

17. The authority citation for Part 359 continues to read as follows:

Authority: 5 U.S.C. 301; 12 U.S.C. 391; 31 U.S.C. 3105.

18. Section 359.3 is amended by adding the definitions of “Inscription” and “Registration” in alphabetical order, and removing the definitions of “Registration of a book-entry Series EE savings bond” and “Registration of a definitive Series EE savings bond”, to read as follows:

§ 359.3 What special terms do I need to know to understand this part?

* * * * *

Inscription means the information that is printed on the face of the bond.

* * * * *

Registration means that the names of all persons named on the bond and the taxpayer identification number (TIN) of the owner, first-named coowner, or purchaser of a gift bond are maintained on our records.

* * * * *

19. Revise § 359.28 to read as follows:

§ 359.28 Are taxpayer identification numbers (TINs) required for the registration of definitive Series I savings bonds?

The registration of a definitive Series I savings bond must include the TIN of the owner or first-named coowner. If the bond is being purchased as a gift or award and the owner's TIN is not known, the TIN of the purchaser must be included in the registration of the bond.

PART 360—REGULATIONS GOVERNING DEFINITIVE UNITED STATES SAVINGS BONDS, SERIES I

20. The authority citation for Part 360 continues to read as follows:

Authority: 5 U.S.C. 301; 31 U.S.C. 3105 and 3125.

21. Section 360.2 is amended by redesignating paragraphs (d) through (h) as paragraphs (e) through (i), redesignating paragraphs (i) through (m) as paragraphs (k) through (o), and adding new paragraphs (d) and (j) to read as follows:

§ 360.2 Definitions.

* * * * *

(d) Inscription means the information that is printed on the face of the bond.

* * * * *

(j) Registration means that the names of all persons named on the bond and the taxpayer identification number (TIN) of the owner, first-named coowner, or purchaser of a gift bond are maintained on our records.

* * * * *

22. Section 360.5 is amended by revising the heading and the second sentence of paragraph (c) to read as follows:

§ 360.5 General rules.

* * * * *

(c) Registration of bonds purchased as gifts. * * * Bonds so registered will not be associated with the purchaser's own holdings.

* * * * *

23. Section 360.6 is amended by revising the last sentence of the introductory paragraph to read as follows:

§ 360.6 Authorized forms of registration.

* * * A savings bond registered in a form not substantially in agreement with one of the forms authorized by this subpart is not considered validly issued.

* * * * *

Dated: August 8, 2006.
Donald V. Hammond,
Fiscal Assistant Secretary.

[FR Doc. E6-13301 Filed 8-14-06; 8:45 am]

BILLING CODE 4810-39-P